DEPARTMENT OF COMMERCE

International Trade Administration

[A-580-895, A-583-861]

Low Melt Polyester Staple Fiber From the Republic of Korea and Taiwan: Final Results of the Expedited First Sunset Reviews of Antidumping Duty Orders

AGENCY: Enforcement and Compliance, International Trade Administration, Department of Commerce.

SUMMARY: As a result of these expedited sunset reviews, the U.S. Department of Commerce (Commerce) finds that revocation of the antidumping duty (AD) orders on low melt polyester staple fiber (low melt PSF) from the Republic of Korea (Korea) and Taiwan would be likely to lead to continuation or recurrence of dumping at the levels indicated in the “Final Results of Expedited Sunset Reviews” section of this notice.

DATES: Applicable October 19, 2023.

FOR FURTHER INFORMATION CONTACT: Andrew Hart, AD/CVD Operations, Enforcement and Compliance, International Trade Administration, U.S. Department of Commerce, 1401 Constitution Avenue NW, Washington, DC 20230; telephone: (202) 482-1058.

SUPPLEMENTARY INFORMATION:

Background

On August 16, 2018, Commerce published in the Federal Register the AD orders on low melt PSF from Korea and Taiwan.¹ On July 3, 2023, Commerce published the Initiation Notice of the first sunset reviews of the Orders pursuant to section 751(c) of the Tariff Act of 1930, as amended (the Act).² In accordance with 19 CFR 351.218(d)(1)(i) and (ii), Commerce received notices of intent to participate in these sunset reviews from Huvis Indorama Advanced Materials, LLC and Nan Ya Plastics Corporation, America (collectively, the domestic interested parties) within 15-days after the date of publication of the Initiation Notice.³ The domestic interested parties claimed interested party status under section 771(9)(C) of the Act as producers of a domestic like product in the United States.

¹ See Low Melt Polyester Staple Fiber from the Republic of Korea and Taiwan: Antidumping Duty Orders, 83 FR 40752 (August 16, 2018) (collectively, Orders).

² See Initiation of Five-Year (Sunset) Reviews, 88 FR 42688 (July 3, 2023) (Initiation Notice).

³ See Domestic Interested Parties' Letter, “Low Melt Polyester Staple Fiber from the Republic of Korea—Domestic Interested Parties' Notice of Intent to Participate,” dated July 18, 2023; see also Domestic Interested Parties' Letter, “Low Melt Polyester Staple Fiber from Taiwan—Domestic Interested Parties' Notice of Intent to Participate,” dated July 18, 2023.

Commerce received timely, adequate substantive responses to the Initiation Notice from the domestic interested parties within the 30-day period specified in 19 CFR 351.218(d)(3)(i).⁴ Commerce did not receive substantive responses from any other interested parties, and no party requested a hearing.

⁴ See Domestic Interested Parties' Letter, “Low Melt Polyester Staple Fiber from the Republic of Korea—Domestic Interested Parties' Notice of Intent to Participate,” dated July 18, 2023; see also, Domestic Interested Parties' Letter, “Low Melt Polyester Staple Fiber from Taiwan—Domestic Interested Parties' Notice of Intent to Participate,” dated July 18, 2023.

On August 22, 2023, Commerce notified the U.S. International Trade Commission that it did not receive an adequate substantive response from other interested parties.⁵ As a result, in accordance with section 751(c)(3)(B) of the Act and 19 CFR 351.218(e)(1)(ii)(C)(2), Commerce conducted expedited, i.e., 120-day, sunset reviews of the Orders.

⁵ See Commerce's Letter, “Sunset Reviews for July 2023,” dated August 22, 2023.

Scope of the Orders

The merchandise subject to the Orders is synthetic staple fibers, not carded or combed, specifically bi-component polyester fibers having a polyester fiber component that melts at a lower temperature than the other polyester fiber component (low melt PSF). For a complete description of the scope of the Orders, see the Issues and Decision Memorandum.⁶

⁶ See Memorandum, “Issues and Decision Memorandum for the Final Results of the Expedited First Sunset Reviews of the Antidumping Duty Orders on Low Melt Polyester Staple Fiber from the Republic of Korea and Taiwan,” dated concurrently with, and hereby adopted by, this notice (Issues and Decision Memorandum).

Analysis of Comments Received

All issues raised in these sunset reviews are addressed in the Issues and Decision Memorandum, including the likelihood of continuation or recurrence of dumping and the magnitude of the margins of dumping likely to prevail if the Orders were revoked.⁷ A list of topics discussed in the Issues and Decision Memorandum is included as an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed at http://access.trade.gov/public/FRNoticesListLayout.aspx.

⁷ Id.

Final Results of Expedited Sunset Reviews

Pursuant to sections 751(c)(1) and 752(c)(1) and (3) of the Act, Commerce determines that revocation of the Orders would likely lead to the continuation or recurrence of dumping and that the magnitude of the dumping margins likely to prevail would be at a rate up to 16.27 percent for Korea and up to 49.93 percent for Taiwan.

Administrative Protective Orders

This notice serves as the only reminder to interested parties subject to an administrative protective order (APO) of their responsibility concerning the return or destruction of proprietary information disclosed under APO in accordance with 19 CFR 351.305. Timely notification of the return or destruction of APO materials or conversion to judicial protective order is hereby requested. Failure to comply with the regulations and terms of an APO is a violation subject to sanction.

Notification to Interested Parties

We are issuing and publishing the results in accordance with sections 751(c), 752(c), and 771(i)(1) of the Act and 19 CFR 351.218.

Dated: October 10, 2023.
Lisa W. Wang,
Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Expedited Sunset Reviews

VIII. Recommendation

[FR Doc. 2023-22881 Filed 10-18-23; 8:45 am]

BILLING CODE 3510-DS-P